DEPARTMENT OF TRANSPORTATION

Federal Aviation Administration

14 CFR Part 39

[Docket No. 2000-NM-373-AD; Amendment 39-12619; AD 2001-17-26 R1]

RIN 2120-AA64

Airworthiness Directives; Raytheon Model DH.125, HS.125, BH.125, and BAe.125 (U-125 and C-29A) Series Airplanes; Model Hawker 800, Hawker 800 (U-125A), Hawker 800XP, and Hawker 1000 Airplanes

AGENCY: Federal Aviation Administration, DOT.

ACTION: Final rule; correction.

SUMMARY: This document corrects and clarifies information in an existing airworthiness directive (AD) that applies to certain Raytheon Model DH.125, HS.125, BH.125, and BAe.125 (U-125 and C-29A) series airplanes; Model Hawker 800, Hawker 800 (U-125A), Hawker 800XP, and Hawker 1000 airplanes. That AD currently requires an inspection for cracking or corrosion of the cylinder head lugs of the main landing gear actuator and follow-on/corrective actions. This document corrects and clarifies the affected airplane serial numbers. This correction is necessary to ensure that operators do not misinterpret which airplanes are subject to the requirements of this AD.

DATES: Effective October 3, 2001.

The incorporation by reference of certain publications listed in the regulations was approved previously by the Director of the Federal Register as of October 3, 2001 (66 FR 45575, August 29, 2001).

FOR FURTHER INFORMATION CONTACT: David Ostrodka, Aerospace Engineer, Airframe Branch, ACE-118W, FAA, Wichita Aircraft Certification Office, 1801 Airport Road, Room 100, Wichita, Kansas 67209; telephone (316) 946-4129; fax (316) 946-4407.

SUPPLEMENTARY INFORMATION: On August 20, 2001, the Federal Aviation Administration (FAA) issued AD 2001-17-26, amendment 39-12417 (66 FR 45575, August 29, 2001), which applies to certain Raytheon Model DH.125, HS.125, BH.125, and BAe.125 (U-125 and C-29A) series airplanes; Model Hawker 800, Hawker 800 (U-125A), Hawker 800XP, and Hawker 1000 airplanes. That AD requires an inspection for cracking or corrosion of the cylinder head lugs of the main landing gear (MLG) actuator and follow-on/corrective actions. That AD was prompted by reports of attachment lugs cracking at the actuator cylinder head. The actions required by that AD are intended to prevent separation of the cylinder head lugs, which could prevent the main landing gear from extending and result in a partial gear-up landing.

Need for the Correction

Information obtained recently by the FAA indicates that the applicability of AD 2001-17-26 needs to be clarified and corrected.

As published, the applicability of that AD did not include the serial numbers of certain airplane models that were cited in the effectivity of Raytheon Service Bulletin 32-3391, dated August 2000. To correct that omission, we have determined that the applicability of this AD also must include the affected airplane serial numbers for Model Hawker 800 (U-125A up to and including serial number 258381) and for Model Hawker 800XP (up to but not including serial number 258490), as cited in the service bulletin.

Although the applicability of AD 2001-17-26 did not include the serial numbers, the FAA's intent was to list the serial numbers cited in the referenced service bulletin.

The FAA has determined that a correction to AD 2001-17-26 is necessary to correct and clarify the applicability and to include the affected airplane serial numbers.

Correction of Publication

This document corrects and clarifies the errors of AD 2001-17-26 and correctly adds the AD as an amendment to section 39.13 of the Federal Aviation Regulations (14 CFR 39.13).

The AD is reprinted in its entirety for the convenience of affected operators. The effective date of the AD remains October 3, 2001.

Since this action only clarifies and corrects a current requirement, it has no adverse economic impact and imposes no additional burden on any person. Therefore, the FAA has determined that notice and public procedures are unnecessary.

List of Subject in 14 CFR Part 39

Air transportation, Aircraft, Aviation safety, Incorporation by reference, Safety.

Adoption of the Correction

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. Section 39.13 is amended by correctly adding the following airworthiness directive (AD):

2001-17-26 R1 Raytheon Aircraft Company: Amendment 39-12619. Docket 2000-NM-373-AD: Revises AD 2001-17-26, Amendment 39-12417.

Applicability: Model DH.125, HS.125, BH.125, and BAe.125 (U-125 and C-29A) series airplanes; Model Hawker 800, Hawker 800 (U-125A up to and including serial number 258381), Hawker 800XP (up to but not including serial number 258490), and Hawker 1000 airplanes; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance: Required as indicated, unless accomplished previously.

To prevent separation of the cylinder head lugs, which could prevent the main landing gear (MLG) from extending and result in a partial gear-up landing, accomplish the following:

Inspection

(a) Perform an eddy current inspection of the actuator cylinder head lugs for cracking or corrosion per Raytheon Service Bulletin 32-3391, dated August 2000, at the time specified in paragraph (a)(1), (a)(2), (a)(3), or (a)(4) of this AD, as applicable.

(1) For actuator cylinder heads that have 3,000 or less total landings as of the effective date of this AD: Perform the eddy current inspection within 24 months after the effective date of this AD.

(2) For actuator cylinder heads that have 3,001 to 4,000 total landings as of the effective date of this AD: Perform the eddy current inspection within 6 months after the effective date of this AD.

(3) For actuator cylinder heads that have been in service for more than 7 years as of the effective date of this AD: Perform the eddy current inspection within 6 months of the effective date of this AD.

(4) For actuator cylinder heads that have 4,001 or more total landings as of the effective date of this AD: Perform the eddy current inspection within 10 landings after the effective date of this AD.

If No Cracking or Corrosion

(b) If no cracking or corrosion is found during the inspection required by paragraph (a) of this AD, before further flight, accomplish the follow-on actions (e.g., “vibro-etching” the MLG actuator data plate, painting a blue stripe on the actuator cylinder head to indicate 1/32 inch oversize bushings, replacing bushings, and applying corrosion protection to the lug bores), per Raytheon Service Bulletin 32-3391, dated August 2000.

If Any Cracking or Corrosion

(c) If any cracking or corrosion is found during the inspection required by paragraph (a) of this AD, before further flight, accomplish either of the actions specified in paragraph (c)(1) or (c)(2) of this AD, per Raytheon Service Bulletin 32-3391, dated August 2000.

(1) Replace the actuator of the MLG with a new or serviceable actuator, or

(2) Replace the actuator cylinder head with a new cylinder head.

Note 2: Raytheon Service Bulletin 32-3391, dated August 2000, references Precision Hydraulics Cylinder Maintenance Manual (CMM) 32-30-1105 as an additional source of service information.

Alternative Methods of Compliance

(d) An alternative method of compliance or adjustment of the compliance time that provides an acceptable level of safety may be used if approved by the Manager, Wichita Aircraft Certification Office (ACO), FAA. Operators shall submit their requests through an appropriate FAA Principal Maintenance Inspector, who may add comments and then send it to the Manager, Wichita ACO.

Note 3: Information concerning the existence of approved alternative methods of compliance with this AD, if any, may be obtained from the Wichita ACO.

Special Flight Permit

(e) Special flight permits may be issued in accordance with sections 21.197 and 21.199 of the Federal Aviation Regulations (14 CFR 21.197 and 21.199) to operate the airplane to a location where the requirements of this AD can be accomplished.

Incorporation by Reference

(f) The actions shall be done in accordance with Raytheon Service Bulletin 32-3391, dated August 2000. This incorporation by reference was approved previously by the Director of the Federal Register as of October 3, 2001 (66 FR 45575, August 29, 2001). Copies may be obtained from Raytheon Aircraft Company, Department 62, P.O. Box 85, Wichita, Kansas 67201-0085. Copies may be inspected at the FAA, Transport Airplane Directorate, 1601 Lind Avenue, SW., Renton, Washington; or at the FAA, Wichita Aircraft Certification Office, 1801 Airport Road, Room 100, Wichita, Kansas; or at the Office of the Federal Register, 800 North Capitol Street, NW., suite 700, Washington, DC.

Effective Date

(g) The effective date of this amendment remains October 3, 2001.

Issued in Renton, Washington, on January 18, 2002.
Michael Kaszycki,
Acting Manager, Transport Airplane Directorate, Aircraft Certification, Service.

[FR Doc. 02-1966 Filed 1-28-02; 8:45 am]

BILLING CODE 4910-13-P